DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (“OFAC”) is publishing the names of four individuals and two entities whose property and interests in property have been unblocked pursuant to Executive Order 12978 of October 21, 1995, “Blocking Assets and Prohibiting Transactions With Significant Narcotics Traffickers”.

DATES: The unblocking and removal from the list of Specially Designated Nationals and Blocked Persons (“SDN List”) of the four individuals and two entities identified in this notice whose property and interests in property were blocked pursuant to Executive Order 12978 of October 21, 1995, is effective on November 26, 2013.

FOR FURTHER INFORMATION CONTACT: Assistant Director, Sanctions Compliance & Evaluation, Department of the Treasury, Office of Foreign Assets Control, Washington, DC 20220, Tel: (202) 622-2420.

SUPPLEMENTARY INFORMATION:

Electronic and Facsimile Availability

This document and additional information concerning OFAC are available from OFAC's Web site at www.treasury.gov/ofac or via facsimile through a 24-hour fax-on demand service at (202) 622-0077.

Background

On October 21, 1995, the President, invoking the authority, inter alia, of the International Emergency Economic Powers Act (50 U.S.C. §§ 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) to play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On November 26, 2013, the Director of OFAC removed from the SDN List the four individuals and two entities listed below, whose property and interests in property were blocked pursuant to the Order:

Individuals

BORRERO QUINTERO, Hector Fabio, c/o INVERSIONES SANTA LTDA., Cali, Colombia; c/o INMOBILIARIA SAMARIA LTDA., Cali, Colombia; c/o SOCIEDAD CONSTRUCTORA LA CASCADA S.A., Cali, Colombia; Carrera 21 No. 9E-48, Cali, Colombia; DOB 10 Feb 1948; Cedula No. 14945412 (Colombia) (individual) [SDNT].

GALLEGO CANO, Juan de la Cruz, c/o GAVIOTAS LTDA., Cartago, Valle, Colombia; Carrera 3 No. 6-39, El Aguila, Valle, Colombia; DOB 26 Feb 1956; POB El Aguila, Valle, Colombia; nationality Colombia; citizen Colombia; Cedula No. 6272570 (Colombia); Passport AF200504 (Colombia) (individual) [SDNT].

CARRION JIMENEZ, Jose Alonso, c/o BONOMERCAD S.A., Bogota, Colombia; c/o GLAJAN S.A., Bogota, Colombia; c/o SHARPER S.A., Bogota, Colombia; c/o DROCARD S.A., Bogota, Colombia; c/o FARMA 3.00 LIMITADA, Barranquilla, Colombia; c/o FOGENSA S.A., Bogota, Colombia; DOB 02 Aug 1958; Cedula No. 79000519 (Colombia); Passport 79000519 (Colombia) (individual) [SDNT].

MARMOLEJO LOAIZA, Carlos Julio, c/o INVERSIONES BETANIA LTDA., Cali, Colombia; c/o INVERSIONES AGRICOLAS AVICOLAS Y GANADERAS LA CARMELITA LTDA., Cali, Colombia; c/o INDUSTRIA AVICOLA PALMASECA S.A., Cali, Colombia; c/o COMERCIALIZADORA INTERNACIONAL VALLE DE ORO S.A., Cali, Colombia; DOB 03 May 1958; Cedula No. 16601783 (Colombia) (individual) [SDNT].

Entities

PROMOCIONES Y CONSTRUCCIONES DEL CARIBE LTDA., Calle 78 No. 53-70 Centro Comercial Villa Country, Barranquilla, Colombia; Calle 74 No. 53-30, Barranquilla, Colombia; Carrera 54 No. 72-147, Barranquilla, Colombia; Carrera 55 No. 72-109 Piso 1, Barranquilla, Colombia; Carrera 56 No. 70-60, Barranquilla, Colombia; Carrera 54 No. 72-80 Ejecutivo I, Barranquilla, Colombia; Carrera 57 No. 79-149, Barranquilla, Colombia; NIT # 890108115-3 (Colombia) [SDNT].

PROMOCIONES Y CONSTRUCCIONES DEL CARIBE LTDA. Y CIA. S.C.A. (a.k.a. PROMOCON), Calle 74 No. 53-30, Barranquilla, Colombia; Carrera 54 No. 72-80 L-21 Ejecutivo I, Barranquilla, Colombia; Calle 78 No. 53-70 Centro Comercial Villa Country, Barranquilla, Colombia; Carrera 55 No. 80-192, Barranquilla, Colombia; Carrera 55 No. 80-192 Ap. 6, Barranquilla, Colombia; Apartado Aereo 50183, Barranquilla, Colombia; Carrera 54 No. 72-147 L-115, Barranquilla, Colombia; Apartado Aereo 51110, Barranquilla, Colombia; NIT # 890108148-6 (Colombia) [SDNT].

Dated: November 26, 2013.
Adam J. Szubin,
Director, Office of Foreign Assets Control.

[FR Doc. 2013-28883 Filed 12-2-13; 8:45 am]

BILLING CODE 4810-AL-P